NUCLEAR REGULATORY COMMISSION

10 CFR Parts 2 and 171

[NRC-2012-0062]

RIN 3150-AJ14

Receipts-Based, Small Business Size Standard; Confirmation of Effective Date

AGENCY: Nuclear Regulatory Commission.

ACTION: Direct final rule; confirmation of effective date.

SUMMARY: The U.S. Nuclear Regulatory Commission (NRC) is confirming the effective date of August 22, 2012, for the direct final rule that appeared in the Federal Register of July 3, 2012 (77 FR 39385). This direct final rule amended the size standard that the NRC uses to qualify an NRC licensee as a “small entity” under the Regulatory Flexibility Act of 1980, as amended. The NRC is increasing its receipts-based, small business size standard from $6.5 million to $7 million to conform to the standard set by the Small Business Administration (SBA). This document confirms the effective date.

DATES: The effective date of August 22, 2012, is confirmed for this direct final rule.

ADDRESSES: Please refer to Docket ID NRC-2012-0062 when contacting the NRC about the availability of information for this direct final rule. You may access information and comment submittals related to this direct final rule, which the NRC possesses and are publicly available, by any of the following methods:

• Federal Rulemaking Web Site: Go to http://www.regulations.gov and search for Docket ID NRC-2012-0062.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Theresa Barczy, Office of Administration, U.S. Nuclear Regulatory Commission, Washington, DC 20555, telephone: 301-492-3666, email: theresa.barczy@nrc.gov.

SUPPLEMENTARY INFORMATION: On July 3, 2012 (77 FR 39385), the NRC published in the Federal Register a direct final rule amending its regulations in parts 2 and 171 of Title 10 of the Code of Federal Regulations. The direct final rule amended the size standard that the NRC uses to qualify an NRC licensee as a “small entity” under the Regulatory Flexibility Act of 1980, as amended. The NRC is increasing its receipts-based, small business size standard from $6.5 million to $7 million to conform to the standard set by the SBA. This document confirms the effective date. In the direct final rule, the NRC stated that if any significant adverse comments were received, a notice of timely withdrawal of the direct final rule would be published in the Federal Register. A significant adverse comment is one where a commenter explains why the rule would be inappropriate, including challenges to its underlying premise or approach, or would be ineffective, or unacceptable without a change. The NRC did not receive any comments that warranted withdrawal of the direct final rule. Therefore, this rule was effective as scheduled.

Dated at Rockville, Maryland, this 28th day of August, 2012.
For the Nuclear Regulatory Commission.
Cindy K. Bladey,
Chief, Rules, Announcements, and Directives Branch, Division of Administrative Services, Office of Administration.

[FR Doc. 2012-21630 Filed 8-31-12; 8:45 am]

BILLING CODE 7590-01-P